CHEMICAL SAFETY AND HAZARD INVESTIGATION BOARD

Sunshine Act Meeting

Time and Date: Tuesday, November 16, 2004, at 7 p.m. local time.

Place: North West Georgia Trade and Convention Center, Lecture Hall Theater, 2211 Dug Gap Battle Road, Dalton, Georgia, (Telephone No. 1-800-824-7469).

Status: Open to the public.

Matters to be Considered: The Chemical Safety and Hazard Investigation Board (CSB) is convening a community meeting in connection with its investigation of a toxic gas release that occurred on April 12, 2004, at the MFG Chemical Inc. facility located in Dalton, Georgia.

At the meeting CSB staff will present their preliminary investigative findings to the Board, including a summary of the incident. There will also be a panel discussion consisting of five emergency response organizations. After the staff presentations the Board will allow time for public comment.

All staff presentations are preliminary and are intended solely to allow the Board to consider in a public forum the issues and factors involved in the incident. Factual analyses, conclusions, or findings contained in the staff presentations should not be considered final.

This meeting will be open to the public. Please notify CSB if a translator or interpreter is needed, at least five (5) business days prior to the meeting.

Contact Person for More Information: Daniel Horowitz, (202) 261-7600.

Dated: November 1, 2004.
Christopher W. Warner,
General Counsel.

[FR Doc. 04-24701 Filed 11-2-04; 8:45 am]

BILLING CODE 6350-01-P